FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201234-005.

Agreement Name: Agreement by Ocean Common Carriers to Participate on the Exchange Board.

Parties: CMA CGM SA; Hapag-Lloyd AG; COSCO Shipping Lines Co., Ltd.; COSCO Shipping Co., Ltd.; Maersk A/S; HMM Company Limited; and Ocean Network Express Pte. Ltd.

Filing Party: Elizabeth Lowe; Venable LLP.

Synopsis: The amendment updates the name of HMM Company Limited.

Proposed Effective Date: 5/6/2021.

Location: https://www2.fmc.gov/FMC.Agreements.Web/Public/AgreementHistory/2064.

Agreement No.: 201235-005.

Agreement Name: Agreement by Ocean Common Carriers to Use Standard Service Contract Terms.

Parties: CMA CGM SA; Hapag-Lloyd AG; COSCO Shipping Lines Co., Ltd.; COSCO Shipping Co., Ltd.; Maersk A/S; HMM Company Limited; Orient Overseas Container Line Limited and OOCL (Europe) Limited (acting as a single party) and Ocean Network Express Pte. Ltd.

Filing Party: Elizabeth Lowe; Venable LLP.

Synopsis: The amendment updates the name of HMM Company Limited.

Proposed Effective Date: 5/6/2021.

Location: https://www2.fmc.gov/FMC.Agreements.Web/Public/AgreementHistory/2065.

Agreement No.: 012094-001.

Agreement Name: Tropical/United Abaco Slot Charter Agreement.

Parties: Tropical Shipping & Construction Company Limited LLC and United Abaco Shipping Company Limited.

Filing Party: Neal Mayer; Hoppel, Mayer & Coleman.

Synopsis: The amendment changes the name of Tropical Shipping.

Proposed Effective Date: 3/24/2021.

Location: https://www2.fmc.gov/FMC.Agreements.Web/Public/AgreementHistory/359.

Agreement No.: 012222-001.

Agreement Name: Crowley/America Cruise Ferries, Inc. Space Charter and Sailing Agreement.

Parties: Crowley Latin America Services, LLC and America Cruise Ferries, Inc.

Filing Party: Wayne Rohde; Cozen O'Connor.

Synopsis: The amendment deletes the space/cargo commitment in Article 5(a) and corrects a typographical error in Article 1.

Proposed Effective Date: 3/23/2021.

Location: https://www2.fmc.gov/FMC.Agreements.Web/Public/AgreementHistory/271.

Dated: March 26, 2021.
Rachel E. Dickon,
Secretary.

[FR Doc. 2021-06629 Filed 3-30-21; 8:45 am]

BILLING CODE 6730-02-P